DEPARTMENT OF THE TREASURY

Submission for OMB Review; Comment Request

September 26, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before November 1, 2001 to be assured of consideration.

Internal Revenue Service (IRS)

OMB Number: 1545-0803.

Form Number: IRS Form 5074.

Type of Review: Extension.

Title: Allocation of Individual Income Tax to Guam or the Commonwealth of the Northern Mariana Islands (CNMI).

Description: Form 5074 is used by U.S. citizens or residents as an attachment to Form 1040 when they have $50,000 or more in adjusted gross income from U.S. sources and $5,000 or more in gross income from Guam or the Commonwealth of the Northern Mariana Islands (CNMI). The data is used by IRS to allocate income tax due to Guam or CNMI as required by 26 U.S.C. 7654.

Respondents: Individuals or households, Not-for-profit institutions.

Estimated Number of Respondents/Recordkeepers: 50.

Estimated Burden Hours Per Respondent/Recordkeeper:

Recordkeeping | 2 hr., 57 min.
Learning about the law or the form | 8 min.
Preparing the form | 49 min.
Copying, assembling, and sending the form to the IRS | 17 min.

Frequency of Response: Annually.

Estimated Total Reporting/Recordkeeping Burden: 209 hours.

OMB Number: 1545-1135.

Form Number: IRS Form 8817.

Type of Review: Extension.

Title: Allocation of Patronage and Nonpatronage Income and Deductions.

Description: Form 8817 is filed by taxable farmers cooperatives to report their income and deductions by patronage and nonpatronage sources. The IRS uses the information on the form to ascertain the amounts of patronage and nonpatronage income or loss were properly computed.

Respondents: Business or other for-profit.

Estimated Number of Respondents/Recordkeepers: 1,650.

Estimated Burden Hours Per Respondent/Recordkeeper:

Recordkeeping | 16 hr., 44 min.
Learning about the law or the form | 36 min.
Preparing, copying, assembling, and sending the form to the IRS | 52 min.

Frequency of Response: Annually.

Estimated Total Reporting/Recordkeeping Burden: 22,006 hours.

OMB Number: 1545-1352.

Regulation Project Number: PS-276-76 Final.

Type of Review: Extension.

Title: Treatment of Gain From Disposition of Certain Natural Resource Recapture Property.

Description: This regulation prescribes rules for determining the tax treatment of gain from the disposition of natural resource recapture property in accordance with Internal Revenue Code section 1254. Gain is treated as ordinary income in an amount equal to the intangible drilling and development costs and depletion deductions taken with respect to the property. The information that taxpayers are required to retain will be used by the IRS to determine whether a taxpayer has properly characterized gain on the disposition of section 1254 property.

Respondents: Individuals or households, Business or other for-profit.

Estimated Number of Respondents/Recordkeepers: 400.

Estimated Burden Hours Per Respondent/Recordkeeper: 5 hours.

Frequency of Response: On occasion.

Estimated Total Reporting/Recordkeeping Burden: 2,000 hours.

OMB Number: 1545-1416.

Form Number: IRS Form 8847.

Type of Review: Extension.

Title: Credit for Contributions to Selected Community Development Corporations.

Description: Form 8847 is used to claim a credit for qualified contributions to a selected community development corporation (CDC).

Respondents: Individuals or households, Business or other for-profit.

Estimated Number of Respondents/Recordkeepers: 34.

Estimated Burden Hours Per Respondent/Recordkeeper:

Recordkeeping | 6 hr., 42 min.
Learning about the law or the form | 24 min.
Preparing and sending the form to the IRS | 31 min.

Frequency of Response: Annually.

Estimated Total Reporting/Recordkeeping Burden: 260 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 01-24610 Filed 10-1-01; 8:45 am]

BILLING CODE 4830-01-P